Title 3—

The President

Memorandum of February 18, 2005

Assignment of Certain Functions Relating to Climate Change Reporting Activities

Memorandum for the Director of the Office of Management and Budget

By the authority vested in me as President by the Constitution and the laws of the United States, including section 301 of title 3, United States Code, I hereby assign to you the function of the President under section 576(b) of the Foreign Operations, Export Financing, and Related Programs Appropriations Act, 2005 (Division D of Public Law 108-447). Heads of departments and agencies shall furnish promptly to the Director of the Office of Management and Budget, to the extent permitted by law, information the Director requests to perform such function.

Any reference in this memorandum to the provision of any Act shall be deemed to include references to any hereafter-enacted provision of law that is the same or substantially the same as such provision.

You are authorized and directed to publish this memorandum in the Federal Register.

B

THE WHITE HOUSE,

Washington, February 18, 2005.

[FR Doc. 05-4624

Filed 3-7-05; 8:45 am]

Billing code 3110-01-P